DEPARTMENT OF THE INTERIOR

National Park Service

Notice of Inventory Completion: Oregon State Museum of Anthropology, Eugene, OR

AGENCY: National Park Service, Interior.

ACTION: Notice.

Notice is here given in accordance with the Native American Graves Protection and Repatriation Act (NAGPRA), 25 U.S.C. 3003, Sec. 5, of the completion of an inventory of human remains in the possession of the Oregon State Museum of Anthropology, Eugene, OR. These human remains were removed from the vicinity of Dufur, Wasco County, OR.

This notice is published as part of the National Park Service’s administrative responsibilities under NAGPRA, 25 U.S.C. 3003, Sec. 5 (d)(3). The determinations within this notice are the sole responsibility of the museum, institution, or Federal agency that has control of these Native American human remains. The National Park Service is not responsible for the determinations within this notice.

A detailed assessment of the human remains was made by the Oregon State Museum of Anthropology professional staff in consultation with representatives of the Confederated Tribes of the Warm Springs Reservation of Oregon.

In 1963, human remains representing a minimum of one individual were removed by the Oregon State Highway Department from the vicinity of Dufur, south of The Dalles, Wasco County, OR. The human remains were eroding from the edge of Highway 197, approximately 3 miles south of Dufur. The human remains were transferred to the Oregon State Museum of Anthropology during the museum curator’s visit to the site in September 1963. No known individual was identified. No associated funerary objects are present.

Historical documents, ethnographic sources, and oral history indicate that the Tenino people have occupied this area of north-central Oregon since precontact times. Based on archeological context, the individual listed above was determined to be Native American and of possible Tenino cultural affiliation. The Tenino is one of the Confederated Tribes of the Warm Springs Reservation of Oregon.

Officials of the Oregon State Museum of Anthropology have determined that, pursuant to 25 U.S.C. 3001, Sec. 2 (9-10), the human remains listed above represent the physical remains of one individual of Native American ancestry. Officials of the Oregon State Museum of Anthropology also have determined that, pursuant to 25 U.S.C. 3001, Sec. 2 (2), there is a relationship of shared group identity that can be reasonably traced between these Native American human remains and the Confederated Tribes of the Warm Springs Reservation of Oregon.

Representatives of any other Indian tribe that believes itself to be culturally affiliated with these human remains should contact C. Melvin Aikens, Oregon State Museum of Anthropology, 1224 University of Oregon, Eugene, OR 97403-1224, telephone (541) 346-5115, before April 14, 2003. Repatriation of these human remains to the Confederated Tribes of the Warm Springs Reservation of Oregon may proceed after that date if no additional claimants come forward.

The Oregon State Museum of Anthropology is responsible for notifying the Confederated Tribes of the Warm Springs Reservation of Oregon that this notice has been published.

Dated: February 7, 2003.
John Robbins,
Assistant Director, Cultural Resources Stewardship and Partnerships.

[FR Doc. 03-6213 Filed 3-13-03; 8:45 am]

BILLING CODE 4310-70-S